DEPARTMENT OF ENERGY

Office of Energy Efficiency and Renewable Energy

National Offshore Wind Strategy Workshop

AGENCY: Office of Energy Efficiency and Renewable Energy, Department of Energy.

ACTION: Notification of public meeting.

SUMMARY: The Department of Energy (DOE) Wind and Water Power Technologies Office (WWPTO) and the Department of the Interior (DOI) Bureau of Ocean Energy Management Office (BOEM) are convening a workshop to obtain individual stakeholder insight into the technical and market challenges and potential pathways to facilitate the development of the offshore wind industry in the United States. The workshop seeks individual input across the range of U.S. offshore wind stakeholders to better inform efforts to update and refine the 2011 A National Offshore Wind Strategy.

DATES: DOE and DOI will hold a workshop on Thursday, December 10th, 2015, from 8:00 a.m. to 5:30 p.m. in Washington, DC. RSVP is required by December 7th, 2015.

ADDRESSES: The workshop will be held at the Hotel Palomar DC located at 2121 P St NW., Washington, DC 20037.

FOR FURTHER INFORMATION CONTACT: Questions may be directed to Greg Matzat, Department of Energy at (202) 586-2776 or Greg.Matzat@ee.doe.gov, or Jim Bennett, Department of the Interior at (703) 787-1300 or James.Bennett@boem.gov.

SUPPLEMENTARY INFORMATION: Since the release of the 2011 A National Offshore Wind Strategy: Creating an Offshore Wind Energy Industry in the United States, DOE has invested in 55 projects and demonstrations and DOI has held five offshore wind lease sales. A 2016 update to A National Offshore Wind Strategy is currently underway at the agencies, which aims to better understand how the industry has changed in the past five years, identify the key challenges still facing the U.S. industry, explore potential pathways for offshore wind in the U.S., and identify the activities needed to facilitate offshore wind development.

The focus of the workshop will be for agencies to receive public input, questions, and recommendations for areas of potential improvement in the refinement and updating of the 2011 A National Offshore Wind Strategy. Particular areas of interest will include technical and market challenges facing offshore wind and potential pathways forward. Participants should limit information and comments to those based on personal experience, individual advice, information, or facts regarding these topics.

It is not the object of this session to obtain any group position or consensus relating to the strategic actions or inactions of the industry as a whole or those of DOE or DOI; rather, the agencies are seeking as much insight as possible from all the individuals at this meeting. To most effectively use the limited time please refrain from passing judgment on another participant's recommendations or advice and, instead, concentrate on your individual experiences.

Public Participation: This meeting is open to the public, subject to space availability. Stakeholders from all sectors in U.S. offshore wind energy are encouraged to attend. Pre-registration is required as space is limited.

Pre-Registration: To pre-register, please include/enter your registration information at the following URL online: http://goo.gl/forms/1zm7NP2wCt. If you have any questions about registration, please contact Ronee Penoi via email at rpenoi@cbuilding.org or by telephone at (202) 853-9005. Participants interested in attending should pre-register no later than the close of business on December 7th, 2015. All attendees are required to pre-register. Space will be limited, and DOE and DOI will continue to accept RSVPs until they have reached maximum attendance based on space limitations.

Privacy Notice: DOE and DOI are requesting your name, company/organization, work email address and work telephone number in order to register you for this government-led event and to facilitate feedback, provide updates, and potentially to plan for future workshops. Providing this information is voluntary, but is necessary in order to attend the workshop. Please be advised that we may include your name and associated company/organization only in a meeting summary that we will make available to the general public after the workshop, and by providing this information you are consenting to allowing us to make it publicly available. DOI's contractor will collect and manage the information until the workshop is over. The contractors and the government will only use your information for the limited purposes stated above, will only share it with authorized personnel, and will not share it with third parties for promotional purposes.

Information on Services for Individuals with Disabilities: Individuals requiring special accommodations at the meeting, please contact Ronee Penoi no later than the close of business on December 3th, 2015.

Minutes: A summary report of the meeting will be available for printing at the DOE Wind Program Online Publication and Product Library at: wind.energy.gov/publications.html.

Dated: November 25, 2015.
Jose Zayas,
Director, Wind and Water Power Technologies, Office of Energy Efficiency and Renewable Energy.

[FR Doc. 2015-30452 Filed 11-30-15; 8:45 am]

BILLING CODE 6450-01-P